DEPARTMENT OF ENERGY

Agency Information Collection Extension

AGENCY: Office of Energy Efficiency and Renewable Energy, U.S. Department of Energy.

ACTION: Submission for Office of Management and Budget (OMB) review.

SUMMARY: The Department of Energy (DOE) has submitted an information collection request to the OMB for extension under the provisions of the Paperwork Reduction Act of 1995. The information collection requests a three-year extension of its Programs for Improving Energy Efficiency in Buildings, OMB Control Number 1910-5184. The proposed collection will enable DOE to better understand and improve building energy load management programs including the following four voluntary programs aimed at reducing energy costs and improving occupant comfort in buildings: The Home Performance with ENERGY STAR Program, the Home Energy Score Program, the Better Buildings Residential Network, and the Zero Energy Ready Home Program. The information gathered by DOE in these four programs is necessary for DOE to run the programs effectively.

DATES: Comments regarding this collection must be received on or before January 10, 2020. If you anticipate that you will be submitting comments, but find it difficult to do so within the period of time allowed by this notice, please advise the OMB Desk Officer of your intention to make a submission as soon as possible. The Desk Officer may be telephoned at 202-395-4718.

ADDRESSES: Written comments should be sent to the DOE Desk Officer, Office of Information and Regulatory Affairs, Office of Management and Budget, New Executive Office Building, Room 10102, 735 17th Street NW, Washington, DC 20503, and to Mr. Chris Early, U.S. Department of Energy, Building Technologies Program, Mail Stop EE-5B, Forrestal Building, 1000 Independence Avenue SW, Washington, DC 20585-0121 or by fax at 202-586-4617 or by email to Chris.Early@ee.doe.gov.

FOR FURTHER INFORMATION CONTACT: Requests for additional information or copies of the information collection instrument and instructions should be directed to Mr. Chris Early, U.S. Department of Energy, Building Technologies Program, Mail Stop EE-5B, Forrestal Building, 1000 Independence Avenue SW, Washington, DC 20585-0121 or by email to Chris.Early@ee.doe.gov.

SUPPLEMENTARY INFORMATION: This information collection request contains: (1) OMB No.1910-5184; (2) Information Collection Request Title: Programs for Improving Energy Efficiency in Buildings; (3) Type of Request: {Renewal} (4) Purpose:The proposed collection will enable DOE to better understand and improve building energy load management programs including the following four voluntary programs aimed at reducing energy costs and improving occupant comfort in buildings: The Home Performance with ENERGY STAR Program, the Home Energy Score Program, the Better Buildings Residential Network, and the Zero Energy Ready Home Program. DOE encourages and assists the people and organizations that voluntarily participate in these energy efficiency programs to build or renovate buildings for the purposes of improved efficiency, reliability, and affordability. The partners who voluntarily participate in the programs include: Home builders, building trades and building-related associations, home design professionals, home energy raters and auditors, home inspectors, building consultants, manufacturers of building products, retailers, utility companies, financial institutions, non-profit organizations, educational institutions, energy program administrators and implementers, Home Performance with ENERGY STAR sponsors, state or local government energy offices or agencies, and other organizations that believe peer sharing will help them improve their effectiveness in encouraging effective energy upgrades. DOE proposes to continue to collect information such as names and addresses of voluntary program participants and organizations; estimates of how many homes these program implementers can get to participate in the programs, and information about building stock (no building owner or occupant information is collected) and load management strategies. The collected information helps DOE understand the participating partners' activities and their progress toward achieving scheduled milestones. This, in turn, enables DOE to respond to partners' needs and assist them in improving their operations to lower energy consumption and improve affordability. DOE published a notice and request for comments related to this current request for OMB clearance to collect information on August 16, 2019 (84 FR 41987) and received no comments; (5) Annual Estimated Number of Respondents: 962; (6) Annual Estimated Number of Total Responses: 92,584; (7) Annual Estimated Number of Burden Hours: 14,383; (8) Annual Estimated Reporting and Recordkeeping Cost Burden: zero dollars.

Statutory Authority: 42 U.S.C. 16191.

Signed in Washington, DC on December 4, 2019.
Alexander N. Fitzsimmons,
Deputy Assistant Secretary For Energy Efficiency, Energy Efficiency and Renewable Energy.

[FR Doc. 2019-26680 Filed 12-10-19; 8:45 am]

BILLING CODE 6450-01-P